DEPARTMENT OF COMMERCE

National Oceanic and Atmospheric Administration

50 CFR Part 300

[Docket No. 130104011-3011-01]

RIN 0648-BC87

International Fisheries; Western and Central Pacific Fisheries for Highly Migratory Species; Fishing Restrictions and Observer Requirements in Purse Seine Fisheries for 2013-2014

Correction

In proposed rule document 2013-05330, appearing on pages 14755-14762 in the issue of Thursday, March 7, 2013, make the following correction:

On page 14755, in the third column, under the sub-heading “Electronic Submission”, beginning in the fourth line, “www.regulations.gov/#!docketDetail;D=;NOAA-NMFS-2013-0043” is corrected to read “www.regulations.gov/#!docketDetail;D=NOAA-NMFS-2013-0043”.

[FR Doc. C1-2013-05330 Filed 3-22-13; 8:45 am]

BILLING CODE 1505-01-D